DEPARTMENT OF TRANSPORTATION

Surface Transportation Board

[STB Finance Docket No. 34970]

BNSF Railway Company—Trackage Rights Exemption—Stillwater Central Railroad

BNSF Railway Company (BNSF) has agreed to grant overhead trackage rights to Stillwater Central Railroad (SLWC) over BNSF's line of railroad between milepost 423.06, in Tulsa, OK, and milepost 438.90, in Sapulpa, OK, a distance of approximately 15.84 miles.

The transaction is scheduled to be consummated on the December 29, 2006 effective date of the exemption.¹

¹ The trackage rights agreement provides for an initial term of 15 years. The parties must seek appropriate Board authority for the trackage rights to expire at the end of that time period.

The purpose of the trackage rights is to allow the performance of interchange service between BNSF and SLWC.

As a condition to this exemption, any employee affected by the acquisition of the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34970, must be filed with the Surface Transportation Board, 1925 K Street, NW., Washington, DC 20423-0001. In addition, a copy of each pleading must be served on Sidney L. Strickland, Jr., Sidney Strickland and Associates, PLLC, 3050 K Street, NW., Suite 101, Washington, DC 20007.

Board decisions and notices are available on our Web site at: http://www.stb.dot.gov.

Dated: December 5, 2006.
By the Board, David M. Konschnik, Director, Office of Proceedings.
Vernon A. Williams,
Secretary.

[FR Doc. E6-21043 Filed 12-12-06; 8:45 am]

BILLING CODE 4915-01-P